DEPARTMENT OF COMMERCE

International Trade Administration

Agency Information Collection Activities; Submission to the Office of Management and Budget (OMB) for Review and Approval; Comment Request; Foreign-Trade Zone Applications

AGENCY: International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 22, 2022.

ADDRESSES: Interested persons are invited to submit written comments by email to Juanita Chen, Senior Foreign Trade Zones Analyst, International Trade Administration, or by email to juanita.chen@trade.gov or PRAcomments@doc.gov. Please reference OMB Control Number 0625-0139 in the subject line of your comments. Do not submit Confidential Business Information or otherwise sensitive or protected information.

FOR FURTHER INFORMATION CONTACT: Requests for additional information or specific questions related to collection activities should be directed to Christopher Kemp, Office of Foreign-Trade Zones, (202)482-0862 or Christopher.Kemp@trade.gov.

SUPPLEMENTARY INFORMATION:

I. Abstract

The Foreign-Trade Zone Application is the vehicle by which individual firms or organizations apply for foreign-trade zone (FTZ) status, for subzone status, production authority, modifications of existing zones, or for waivers. The FTZ Act and Regulations (19 U.S.C. 81b and 81f; 15 CFR 400.21-25, 43(f)) set forth the requirements for applications and other requests to the FTZ Board. The Act and Regulations require that applications for new or modified zones contain information on facilities, financing, operational plans, proposed production operations, need for FTZ authority, and economic impact, where applicable. Any request involving production authority requires specific information on the foreign status components and finished products involved. Applications for production activity can involve issues related to domestic industry and trade policy impact. Such applications must include specific information on the customs-tariff related savings that result from zone procedures and the economic consequences of permitting such savings. The FTZ Board needs complete and accurate information on the proposed operation and its economic effects because the Act and Regulations authorize the Board to restrict or prohibit operations that are detrimental to the public interest. The Regulations (15 CFR 400.43(f)) also require specific information for applications requesting waivers by parties impacted by 400.43(d). This information is necessary to assess the likelihood of the proposed activity resulting in a violation of the uniform treatment provisions of the FTZ Act and Regulations.

II. Method of Collection

U.S. firms or organizations submit applications by email to the office of Foreign-Trade Zones.

III. Data

OMB Control Number: 0625-0139.

Form Number(s): None.

Type of Review: Regular submission.

Affected Public: State, Local, or Tribal government, or not-for-profit institutions applying for foreign-trade zone status, subzone status, modification of existing zones, production authority, or waivers.

Estimated Number of Respondents: 288.

Estimated Time per Response: 3.5 to 131.0 hours (dependent on the type of application).

Estimated Total Annual Burden Hours: 2,521.

Estimated Total Annual Cost to Public: $123,000.

Respondent's Obligation: Mandatory.

Legal Authority: The Foreign-Trade Zones Act of 1934, as amended (19 U.S.C. 81a-81u), administered through the FTZ Regulations (15 CFR part 400) and CBP Regulations (19 CFR part 146).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-27552 Filed 12-20-21; 8:45 am]

BILLING CODE 3510-DS-P